ENVIRONMENTAL PROTECTION AGENCY

40 CFR Part 51

[AD-FRL-7223-8]

RIN 2060-AH25

Consolidated Emissions Reporting

AGENCY: Environmental Protection Agency (EPA).

ACTION: Final rule.

SUMMARY: This action simplifies and consolidates emission inventory reporting requirements to a single location within the Code of Federal Regulations (CFR), establishes new reporting requirements related to PM2.5 and regional haze, and establishes new requirements for the statewide reporting of area source and mobile source emissions. Many State and local agencies asked EPA to take this action to: Consolidate reporting requirements; improve reporting efficiency; provide flexibility for data gathering and reporting; and better explain to program managers and the public the need for a consistent inventory program. Consolidated reporting should increase the efficiency of the emission inventory program and provide more consistent and uniform data.

DATES: The regulatory amendments announced in this rule take effect on August 9, 2002.

ADDRESSES: Docket. Supporting material used in developing the proposal and final regulatory revisions is contained in Docket Number A-98-40. This docket is available for public inspection and copying between 8:30 a.m. and 5:30 p.m., Monday through Friday. The address of the EPA air docket is: Air and Radiation Docket and Information Center (6102), Attention Docket Number A-98-40, U.S. Environmental Protection Agency, 401 M Street, SW., Washington, DC 20460. The Docket is located in Room M-1500, Waterside Mall (ground floor). The telephone number for the EPA air docket is (202) 260-7548. A reasonable fee may be charged for copying.

FOR FURTHER INFORMATION CONTACT: William B. Kuykendal, Emissions, Monitoring, and Analysis Division (MD-C205-01), Office of Air Quality Planning and Standards, U.S. Environmental Protection Agency, Research Triangle Park, North Carolina, 27711, Telephone: (919) 541-5372, email: kuykendal.bill@epa.gov.

SUPPLEMENTARY INFORMATION:

I. Authority

Sections 110(a)(2)(F), 110(a)(2)(K), 110(a)(2)(J), 110(p), 172(c)(3), 182(a)(3), 187(a)(5), 301(a) of the Clean Air Act.

II. Background

Emission inventories are critical for the efforts of State, local, and federal agencies to attain and maintain the National Ambient Air Quality Standards (NAAQS) that EPA has established for criteria pollutants such as ozone, particulate matter, and carbon monoxide. Pursuant to its authority under section 110 of Title I of the Clean Air Act (CAA), EPA has long required State Implementation Plans (SIPs) to provide for the submission by States to EPA of emission inventories containing information regarding the emissions of criteria pollutants and their precursors (e.g., volatile organic compounds (VOC)). The EPA codified these requirements in 40 CFR part 51, subpart Q in 1979 and amended them in 1987.

The 1990 Amendments to the CAA revised many of the provisions of the CAA related to the attainment of the NAAQS and the protection of visibility in mandatory Class I Federal areas (certain national parks and wilderness areas). These revisions established new periodic emission inventory requirements applicable to certain areas that were designated nonattainment for certain pollutants. For example, section 182(a)(3)(A) required States to submit an emission inventory every three years for ozone nonattainment areas beginning in 1993. Emissions reported must include VOC, nitrogen oxides (NOX), and carbon monoxide (CO) for point, area, mobile (onroad and nonroad), and biogenic sources. Similarly, section 187(a)(5) required States to submit an inventory every three years for CO nonattainment areas for the same source classes, except biogenic sources. The EPA, however, did not codify these statutory requirements in the Code of Federal Regulations (CFR), but simply relied on the statutory language to implement them.

The EPA has promulgated the NOX SIP Call (§ 51.121) which calls on the affected States and the District of Columbia to submit SIP revisions providing for NOX reductions in order to reduce the amount of ozone and ozone precursors transported among States. As part of that rule, EPA established emissions reporting requirements to be included in the SIP revisions to be submitted by States in accordance with that action.¹

¹ EPA recognizes that the United States Court of Appeals has remanded certain issues regarding the NOX SIP call to the Agency. See Michigan v. EPA, 213 F. 3d 663 (D.C. Cir. 2000), and Appalachian Power Co. v. EPA, No. 99-1268, United States Court of Appeals for the District of Columbia Circuit, slip op. Issued June 8, 2001. Those issues, however, do not include the reporting requirements and the consolidation of those requirements does not represent any prejudgment of the issues on remand to the Agency.

This rule consolidates the various emissions reporting requirements that already exist into one place in the CFR, establishes new reporting requirements related to PM2.5 and regional haze, and establishes new requirements for the statewide reporting of area source and mobile source emissions. This rule also includes the reporting provisions for the NOX SIP call. The NOX SIP call reporting requirements are very detailed and are specified in 40 CFR 51.122; this rule references these requirements.

In this action, we refer to the required types of inventories as the following:

• Annual inventories.

• 3-year cycle inventories.

The EPA anticipates that States will use data obtained through their current annual source reporting requirements (annual inventories) to report emissions from larger point sources annually. States will need to get data from smaller point sources only every third year. States may also take advantage of data from Emission Statements that are available to States but not reported to EPA. As appropriate, States may use these data to meet their reporting requirements for point sources. States will also be required to inventory area and mobile source emissions on a Statewide basis for the 3-year cycle inventory. We will be furnishing each State the National Emission Inventory (NEI) which should be a good starting point for estimating area source emissions. Mobile source emissions should be estimated by using the latest emissions models and planning assumptions available. The MOBILE emissions factor model should be used to estimate emissions from on-road transportation sources, in combination with the latest available estimates of vehicle miles traveled (VMT). The NONROAD model can be used for off-road mobile sources as appropriate. By merging this information into a comprehensive emission inventory, State and local agencies may do the following:

• Measure their progress in reducing emissions.

• Have a tool they can use to support future trading programs.

• Set a baseline from which to do future planning.

• Answer the public's request for information.

We intend these inventories to help nonattainment areas develop and meet SIP requirements to reach the NAAQS and comply with the regional haze regulation.

For the first time, all States will need to inventory direct emissions of PM2.5 and ammonia (NH3). Since PM2.5 is both a NAAQS pollutant and a major contributor to visibility impairment, we feel it is appropriate to begin collecting this emissions data. These PM2.5 related data elements are needed as input to emission models. Emissions data will also be a factor in the development of PM2.5 nonattainment area boundaries.

The Administrator has determined that States should submit statewide annual and 3-year cycle inventories for PM10, PM2.5, and regional haze, consistent with the data requirements for O3 and CO. Sections 110(a)(2)(F) and 172(c)(3) provide ample statutory authority for this rule. Section 110(a)(2)(F) provides that SIPs are to require “as may be prescribed by the Administrator * * * (ii) periodic reports on the nature and amounts of emissions and emissions-related data from such sources.” Section 172(c)(3) provides that SIPs for nonattainment areas are to “include a comprehensive, accurate, current inventory of actual emissions from all sources of the relevant pollutant or pollutants in such area, including such periodic revisions as the Administrator may determine necessary to assure that the requirements of this part are met.” Additional statutory authority for emissions inventories from 1-hour ozone nonattainment areas is provided by section 182(a)(3)(A) and for emissions inventories from CO nonattainment areas is provided by section 187(a)(5). Section 301(a) provides authority for EPA to promulgate regulations embodying these provisions.

What Is the Purpose of the Consolidated Emissions Reporting Rule (CERR)?

The purpose of this rule is fivefold:

• Simplify emissions reporting,

• Offer options for data submittal,

• Unify reporting dates for various categories of inventories,

• Include reporting fine particulate matter and NH3 (Note: Initially PM2.5 and NH3 reporting will only be required for area and mobile sources. States will be required to commence point source reporting of PM2.5 and NH3 at a later date as detailed in § 51.30.) and,

• Include Statewide reporting for area and mobile sources.

Previous requirements may have, at times, led to inefficient reporting. This rule provides for options for reporting that allow States to match their ongoing activities with federal requirements. This action also consolidates existing and new requirements of emission inventory programs for annual and 3-year cycle inventories.

Who Will Have To Comply With the CERR Requirements?

This rule will apply to State air pollution control agencies. In the special case where a State Implementation Plan provides for independent jurisdiction for local air pollution control agencies, these local agencies will also have to comply with the CERR requirements. In the rule, we have adopted “plain English language”. When “you” is used, we mean the State or local agency. When “we” is used, EPA is meant.

How Will This Rule Affect Tribes?

One of the principal goals of the Tribal Authority Rule (TAR) is to allow tribes the flexibility to develop and administer their own CAA programs to as full an extent as they elect, while at the same time ensuring that the health and safety of the public are protected. In seeking to achieve this principal goal, the TAR adopts a modular approach, that is, it authorizes tribes to develop and implement only discrete portions of CAA programs, instead of entire complex programs. Neither the CAA nor the TAR require tribes to adopt and manage CAA programs. Accordingly, the tribes are not required to develop an emissions inventory for sources within their jurisdiction. However, the emissions inventory is an important part of understanding the air quality status on the reservations and would be helpful in determining the best approach for addressing any air quality issues identified. Therefore, EPA expects that many of the tribes will wish to develop emissions inventories. This rule can provide valuable guidance to the tribes on how to develop these inventories, for example, by pointing out that any inventory data that are collected should be quality assured, and explaining how to do so. In addition, it would be very helpful if this information were recorded in EPA's National Emission Inventory (NEI) data format. This would make it possible to include the tribal data in the NEI which should facilitate future efforts by EPA when working with the tribes to develop air quality plans for reservations.

How Are the CERR's Requirements Different From Existing Requirements?

(a) Additional Pollutants

Your State's inventory will add PM2.5 and the precursor NH3 to the criteria pollutants. (Note: Initially PM2.5 and NH3 reporting will only be required for area and mobile sources. States will be required to commence point source reporting of PM2.5 and NH3 at a later date as detailed in § 51.30.)

(b) Geographic Coverage of Inventory

Your State now reports point source emissions statewide and emissions from area and mobile sources by nonattainment area. Your State's new inventory will be statewide by county for all source types, regardless of the attainment status.

(c) Frequency of Reporting

Your State will continue to report emissions from larger point sources (See Table 1 of Appendix A) annually. Your State has a choice to report smaller point sources every three years or one-third of the sources each year. Your State will continue to report emissions from nonattainment areas for area and mobile sources every three years. Area and mobile source emissions in all other areas will be required to be reported for the first time, also every three years.

How Will EPA Use the Data Collected Under This Reporting Requirement?

The EPA uses emission inventories for the following purposes:

• Modeling analyses,

• Projecting future control strategies,

• Tracking progress to meet requirements of the CAA,

• Calculating risk and

• Responding to public inquiries.

How Will Others Use My Data Collected Under This Requirement?

Some States need emissions data for areas outside their borders. Programs such as the Ozone Transport Assessment Group, the Ozone Transport Commission NOX Baseline Study, and the Grand Canyon Visibility Transport Commission demonstrated this need. As we recognize pollution as a regional problem, agencies will need multistate inventories more often to do such things as regional modeling. The EPA has established five Regional Planning Organizations (RPOs) that cover the nation. The RPOs are initially charged with developing regional strategies to address visibility concerns. Each RPO will be developing a regional emission inventory that will be used in regional scale modeling.

We can meet our common needs by creating a central repository of data from State and local agencies, or a group of regional emissions databases. Such repositories offer the advantage of ready access and availability, common procedures for ensuring the quality of data, and an ability to meet the general needs of many potential users.

What Happens if EPA Doesn't Get My Agency's Emissions Data?

We have structured this rule and our own emission inventory development plans so that the chance of this happening is minimized. We will develop our own preliminary National Emission Inventory (NEI) and furnish it to each State. You may choose to use the NEI as a starting point for development of your Statewide emission inventory. We strongly urge you to develop your own emission inventory. However, you may choose to accept all or part of the area source, mobile source and biogenic portions of the NEI as estimated by EPA without change and use these as your submittal to EPA. To do this, you can certify that you accept the EPA developed portions as your own estimates. Since you have been required to submit point source inventories to us since 1979 and since today's action reduces your point source reporting burden, you cannot use the NEI to satisfy your obligation to submit point source data.

If we don't receive your emissions information at the time this rule specifies, we'll use our preliminary NEI to produce final emissions estimates for your geographical area.

The CAA provides for certain actions if we do not receive your data, depending on the type of area, the pollutants involved, and the type of inventory submittal in question. All of the emissions information submissions specified by this rule are required submissions under section 110(p) of the CAA. There are also required submissions under the provisions of each existing approved State Implementation Plan, by virtue of section 110(a)(2)(F)(ii). If States do not make the required data submissions, we may make a finding of failure to implement the SIP even though we have substituted our preliminary estimates for the data you were required to submit but did not. In some cases, for example the three-year periodic emission inventories in ozone nonattainment areas, the submissions are statutorily required SIP revisions. Accordingly, we may also or instead make a finding of failure to submit.

III. Comments Received on the Proposal

The forty-five day comment period for the May 23, 2000 proposal (65 FR 33268) expired on July 7, 2000. We received comments from forty-one respondents. These comments were submitted by twenty-eight State and local agency representatives, eleven industrial organizations and two environmental organizations. We have addressed all comments in detail and placed them in the docket. The major comments and their resolution are discussed below. As an aid to the reader, we have grouped related comments under broad topical headings.

A. Hazardous Air Pollutant Reporting

A number of commenters responded to the section in the preamble of the proposed rule, “What Additional Reporting Requirements Is EPA Considering?”. This section discussed how EPA might require the reporting of hazardous air pollutants (HAPs) in the final rule. The predominant comment was that EPA should not include HAP reporting requirements in the final rule until the specific HAP reporting requirements were proposed. We have carefully considered this comment and agree. We have limited this rulemaking to the criteria pollutants including PM2.5 and NH3. We plan to develop HAP reporting measures at a future date. At that time, we will address all other HAP related comments.

B. Criteria Point Source Reporting

We received several comments addressing the proposed applicability threshold (the emission limit at which a State is required to report a facility as a point source), the associated basis for determining applicability (applicability based on either “actual” or “Title V permitted” criteria pollutant emissions), and reporting frequency.

Existing rules require State agencies to annually report criteria pollutant emission inventory information for all qualifying point sources statewide. The reporting thresholds in place prior to this rule were for any point source with actual emissions greater than or equal to any one of the following levels: 100 tons per year for SOX, NOX, VOC, and PM10; 1000 tons per year for CO and 5 tons per year for lead. This rule revises the applicability threshold by assigning the point sources into two categories termed Type A (large point sources) and Type B (all point sources), and reduces the reporting frequency for the smaller sources. Qualification as either a Type A or B source is still based upon a point source's actual emissions of the same criteria pollutants. Under our new terminology, all of the sources that were defined as a point source under the old thresholds are defined as Type B sources. Type A sources are the larger emitting sources and are a subset of the Type B sources. The reporting thresholds for Type A and Type B sources are presented in Table 1 of Appendix A.

Several State and local agencies indicated that the proposed Type A and B categories and associated emission thresholds were confusing and increased their reporting burden. These commenters recommended that we use the CAA's Title V definition of major source instead of the two subsets for determining point source applicability for this rule. (Note: for criteria pollutants, a major source under Title V is any stationary source or any group of stationary sources located within a contiguous area and under common control that has the potential to emit 100 tons per year. However, sources located in nonattainment areas can have lower emission thresholds that would define them as major sources.) In addition to lowering the applicability threshold, use of the Title V definition would shift the basis for determining the applicability of the rule from “actual” to “potential” emissions. Commenters advocating the use of the Title V major source definition indicated that they maintain emission inventory data on all of their Title V sources and their reporting burden would increase if we required them to designate sources in their database as Type A (large point sources) vs Type B (all point sources).

We also received comments opposing the use of the Title V major source definition for determining applicability. These commenters indicated that such a requirement would increase their reporting burden since they currently do not gather the required emission inventory information for all of the Title V sources located in their jurisdiction.

In addition to the Title V applicability issue, we received comments, both advocating and opposing, the proposed 10 tpy VOC applicability threshold for sources located in all ozone nonattainment areas. Commenters opposed to the proposed VOC applicability threshold recommended that the existing 10 tpy level be raised to the major source threshold. (The major source threshold for VOC varies between 10 and 100 tons per year of potential emissions depending on the ozone nonattainment classification.) Other commenters advocated finalizing the proposed 10 tpy VOC applicability threshold.

Existing emission inventory reporting rules require State and local agencies to report emission inventory information for all qualifying point sources on an annual basis. The frequency for reporting emission inventory information was revised in the proposal. As proposed, States would be required to report emission inventory data for Type A (large point sources) on an annual basis and Type B (all point sources) on a 3-year cycle. In response to this revision, we received comments both opposing the reduction and comments advocating further reductions in the reporting frequency. Commenters opposing the reduction recommended that we maintain the existing annual reporting frequency for both Type A and Type B sources. Commenters advocating further reporting reductions wanted to increase the time for reporting Type B sources from 3 to 5 years.

After careful consideration of the comments on the point source applicability and reporting, we have decided to promulgate the proposed Type A (large point sources) and Type B (all point sources) categories and the associated criteria pollutant emission thresholds, except for VOC, and the reporting frequency. Regarding the VOC applicability threshold for sources located in ozone nonattainment areas, we have decided to revise this threshold, proposed as 10 tpy for all ozone nonattainment areas, to be consistent with the CAA definition of major source in the respective ozone nonattainment areas except that it will apply to actual rather than to potential emissions.

When assessing comments on applicability and reporting issues, we considered the fact that this proposal was developed with input from a work group that included representatives from three states (California, New Jersey and Texas) and EPA. In addition to this workgroup, we maintained an active dialog about this proposal with a larger number of States through the State and Territorial Air Pollution Program Administrators (STAPPA) and the Association of Local Air Pollution Control Officials (ALAPCO). The fact that this proposal received strong support from the same State and local agencies that are responsible for complying with this rule was a factor in our decision to promulgate these revisions. Another factor that affected our decision is that the revisions to both the point source category and reporting frequency were proposed to reduce the reporting burden on State agencies. Because of their large size, the annual requirement for Type A sources will affect relatively few sources, yet capture a large percentage of the emissions that would be reported if all Type B sources reported annually. Thus, we believe that the promulgated revisions to applicability threshold and reporting frequency will not adversely affect our effort to implement the CAA nor diminish the usefulness of emission inventory data accessible to the public.

We are sympathetic with the additional reporting burden that this rule would place on those agencies that currently collect the required items of emission inventory information on all Title V sources, if they were required to remove all data for smaller point sources when preparing their annual report on Type A (large point sources) or their triennial report on Type B (all point sources). Recognizing the need to provide State agencies with additional reporting flexibility and to reduce reporting burden, the final rule is explicit that we will accept emission inventory information submitted by the States that was collected and stored using any more stringent definition of point source and basis for determining source applicability within the Title V definition. Thus, an annual submission of a point source emission inventory that uses the Title V major source definition and potential emissions as qualification factors for inclusion in a State's emission inventory will be accepted.

We believe that the promulgated rule establishes the baseline or minimal data requirements needed to implement the CAA. We believe that requiring State and local agencies to report sources below the baseline established by this rule would increase the reporting burden with only a minimal increase in the usefulness of the inventory. However, this rule is not intended to relax existing reporting thresholds and frequencies established by State and local agencies. We recognize that State and local agencies may need emission information on sources more frequently and below the baseline established by this rule in order to manage their air quality. Thus States and local agencies will have the flexibility to establish lower reporting thresholds and more frequent reporting requirements than those promulgated in this rule.

Several commenters noted that the applicability limits for sources subject to annual reporting specified in § 51.1 were incorrect. We agree with these comments and have appropriately modified the regulatory language.

One commenter noted that many of the data elements required by this rule for a point source are more appropriate for an “emission unit”. The commenter recommended that the final rule include thresholds for reporting emission unit or stack data within a point source. After reviewing this comment, we believe that it would be confusing and would add additional reporting burden to require reporting thresholds below the facility level. Therefore, we have decided not to expand the reporting threshold requirements below the facility level. However, if States choose to report at the sub-facility level, Table 2a in Appendix A includes provisions for reporting at the point, process and stack levels.

C. Criteria Area/Mobile/Biogenics Reporting

One commenter noted that we are requiring States to submit criteria pollutant emission estimates for all counties regardless of an area's classification (attainment or nonattainment) and that States, having historically done a good job when concentrating on problem areas, generally do not have the resources to perform a good job on every county especially when estimating area, nonroad, and mobile sources in small metropolitan areas. The commenter recommended that we develop these estimates and not burden the States.

For the 1996 emission inventory, we prepared an estimate of the criteria pollutants from point, area, mobile, nonroad and biogenic sources and provided these data to the States for their review prior to their initiating the emission inventory reporting effort. The States were able to use the EPA estimates as they prepared their 1996 emission inventory. For area sources, mobile sources and biogenic sources, we offered States the option of either notifying us that they agreed with our estimate or revising the estimate and providing us with updated information. The States were still required to provide State developed estimates for point sources. Recognizing the burden to States, we plan to continue to provide States with our emissions estimate for their review and use in future emission inventory preparation.

Another commenter noted that in the proposed preamble section “What happens if EPA doesn't get my agency's emissions Data?” that we state that we will generate the non-supplied data using our own techniques. The commenter wondered if the State could simply accept the data we developed. The commenter also stated that if we developed data not supplied by the State, that we should label the data as our estimates. The commenter stated that our estimates made without State agreement could be challenged with due cause. We have rewritten this section of the preamble to explicitly state that we will furnish each State with an inventory that we prepared for that State (the National Emission Inventory (NEI)). The States may use the NEI as they prepare their State inventories. The States are strongly encouraged to improve upon our NEI estimates. However, they may choose to resubmit all or part of the NEI to us as their State's inventory. If they do this, then they are certifying that the adopted NEI portions are their estimates. If States ignore the requirements of this rule and do not make a timely inventory submittal to us, we will use our NEI to fill data gaps that will allow us to proceed with our various analyses.

D. PM2.5 and Precursors

One commenter stated that we should revise our list of reported pollutants under § 51.20 to include only specific compounds or groups of compounds. This commenter wanted us to remove “PM2.5 precursors” from our list of pollutants. We have carefully evaluated this comment and agree that the term “PM2.5 precursor” is not precise. There is not an acceptable enforceable definition of this term. When “PM2.5 precursor” was used in the proposed rule, the compounds or groups of compounds SOX, VOC, NOX and NH3 were meant. Since the CERR specifically requires the reporting of SOX, VOC and NOX, we have dropped the term “PM2.5 precursors” and substituted NH3 in the list of required pollutants. The proposed rule specifically stated that NH3 was a “PM2.5 precursor”, so this modification merely simplifies the list of required pollutants; it does not add a new pollutant to the list.

E. Tools

Several commenters stated that the emissions estimation tools were inadequate to produce acceptable emission inventories. These commenters pointed out specific types of estimation tools that they believed were either not available at all or were not adequate. These included EPA-developed models including the MOBILE model, the NONROAD model, and the PART model and emission factors, especially ones for PM2.5 and NH3. We agree that improvements in many of the emission estimation techniques are highly desirable, particularly in some of the areas identified by the commenters. However, we know that there will always be the opportunity to improve emission estimation techniques and that this is an evolutionary process. The CERR does not require the use of any specific emission estimation technique. There are emission estimation techniques available for all of the required pollutants and their major sources. Therefore, we believe that State or local agencies should be able to make emission inventory submittals that will be acceptable to EPA using current state-of-the-art techniques.

F. Reporting Deadlines/schedules

As proposed, this rule would have been applicable for the 1999 reporting year. Commenters noted that States had already begun compiling their 1999 point source inventories. These commenters would like for us to incorporate a phase-in or implementation schedule into the rule that would allow sufficient time for some agencies to go through a rulemaking process to align their requirements with the new requirements specified by this rule. In addition, lead time is required for some agencies to conform to the standard data format for the first time. After careful consideration of these comments, we have decided to change the first year that States will be required to report under this rule. The first “Annual Cycle Inventory” will be for the year 2001. The first “Three-year Cycle Inventory” will be for the year 2002. Thus when States begin to develop their 2001 annual cycle emission inventory, they will only be required to submit the plant information and emission data for Type A (large point sources) as outlined by this rule. Since the basic requirement for point source reporting is not new, the States should be able to comply.

Another reporting related issue identified by the commenters was the difference in the reporting schedule between the proposed rule which requires all States to report annual emissions for certain sources and the NOX SIP call rule which requires only affected States to report ozone season emissions. Some commenters recommended that the reporting schedule for these two inventories should be the same. Specifically, the NOX SIP call specifies that States must report their ozone season emissions inventory for subject facilities within 12 months after the end of the reporting year. The proposed rule would require States to report both annual and the 3-year cycle inventories for subject facilities within 17 months after the end of the reporting year. The commenters recommended that the reporting schedule for the NOX SIP call inventory be revised and made consistent with the annual and three-year cycle inventories.

After considering the comment, we have decided to maintain the NOX SIP call reporting schedule on its 12-month cycle. Maintaining the 12-month reporting requirement for the NOX SIP call inventory allows both the States and us to take note of higher than planned emissions early enough to give an opportunity for action before the next ozone season. Furthermore, for many large NOX sources (e.g., utilities) that must report directly to us, the NOX SIP call rule does not require any State reporting. Thus, the 12-month reporting requirement is not a burden on the States for these sources. We will continue to consider the points made by the commenters in light of the experience that both of us have with the 12 month preparation and submission of annual inventories. We may re-open this requirement for comment at a later date.

One commenter noted that we did not revise 40 CFR 51.321 to agree with the proposed § 51.35. Each of these sections contains due dates which did not agree. We agree with this comment and have rewritten both sections to ensure consistency of the reporting dates.

G. Reporting Stack Data

One commenter noted that while the proposed rule text required the reporting of stack data every three years, the blocks for stack data were not checked in Table 2a for the column Entire US”. We acknowledge that the omission of the checks was a mistake in Table 2a for the data elements: 40. Stack Height, 41. Stack Diameter, 42. Exit Gas Temperature, 43. Exit Gas Velocity and 44. Exit Gas Flow rate for the columns “Entire US”. We have corrected this; the column “Entire US” has been relabeled “Every 3 Years'.

H. Funding Issues

A number of commenters raised the issue of sufficient funding being available to pay for these new emission inventory requirements. These commenters questioned whether we would make additional monies available to the States specifically to comply with the provisions of the CERR. We are aware that the CERR does apply additional reporting burden on the States. In this preamble, under “IV. Administrative Requirements, C. Paperwork Reduction Act,” we have estimated the incremental burden of the new requirements to be about $2,133,000 per year nationally. This estimate is based on information supplied by the States to us during the comment period and assumes that the States will be doing new work. However, in this preamble, under “II. Background, What happens if EPA doesn't get my agency's data?” we discuss how you may use the EPA-supplied NEI in the preparation of your emission inventory. If you choose to use the NEI estimates for area, mobile and biogenic sources as your State's estimates, your cost would be limited to the preparation of your point source inventory. We acknowledge that quality of this NEI-based inventory would be lower, but it would satisfy the specific reporting requirements of the CERR. We hope that future budgets at both the Federal and State levels will improve emission inventory funding. For FY 2001, the Congress authorized an increase in the total air grant funds to the States and the multi-State Regional Planning Organizations. Some of these funds were used for emission inventory improvement. However, no new monies are being made available through this rulemaking.

I. General

Several commenters stated that they support EPA's efforts to consolidate and improve emission inventory reporting on a national level. The respondents benefit from the data collected under the CERR since consistently developed statewide emission inventories assist in regional planning processes, especially for those downwind States whose nonattainment status is caused in part by pollution transported across State boundaries. In addition, the collection of PM2.5 and NH3 data will support future State efforts to reach the visibility improvement goals in Class I areas and to attain the revised PM NAAQS.

We received several comments on our estimate of reporting burden contained in the proposed rule. These comments are addressed in this preamble under “IV. Administrative Requirements, B. Paperwork Reduction Act”.

J. EPA Initiated Changes

In addition to the above changes in response to specific comments, we have made other changes. Most of these changes were editorial to improve clarity or to correct grammatical mistakes. The references to sections 182(a)(3)(A) and 182(a)(3)(B) under “Authority” have been combined to refer to section 182(a)(3) as a simplification. An additional reference under “Authority” has been added for section 110(p). The preamble, Section G. “Executive Order 13132: Federalism”, has been revised as discussed in that section. In the “Background” section of the preamble, we have added the new subsection “How will this rule affect Tribes?”. This subsection immediately follows “Who will have to comply with the CERR requirements?” and clarifies how Tribes will be affected by this rule. We changed the name of four data elements in Table 2a of Appendix A and relocated one of them in the table. In the proposed rule the data elements were: 7. Federal ID code (plant), 8. Federal ID code (point), 9. Federal ID code (process) and 37. Federal ID code (stack number). There is no “Federal ID code”. These data elements were renamed and numbered as follows: 7. Facility ID code, 8. Point ID code, 9. Process ID code and 10. Stack ID code. In addition, a check mark was inadvertently omitted in the proposed rule for data element “10. Stack ID code” for the column “Annual (Type A Sources)”. We have added this check mark in the final rule. The Glossary in Appendix A was also revised to include these new names.

In the proposed rule under “§ 51.40 In what form should my State report the data to EPA?” and “§ 51.45 Where should my State report the data?”, we proposed two specific electronic format options and identified means of reporting these data to us. Because electronic reporting technology changes frequently and is expected to become even more efficient in the future, we believe that structuring the final rule to limit reporting to these formats in the final rule unnecessarily restricts the flexibility for both the States and EPA. For this reason, we have revised both of these sections to allow for the use of new reporting formats in the future. These changes do not substantively alter this rule since, at this time, we will support both of the formats identified in the proposal; the National Emission Trends (NET) format (renamed as the National Emission Inventory (NEI) format) and Electronic Data Interchange (EDI) format, based on user needs.

We have also made changes to the portions of the rule that were concerned with the NOX SIP Call reporting requirements. In the proposed rule, the NOX SIP Call reporting requirements were detailed in the regulatory text and in the tables in Appendix A. However, these requirements are actually established in § 51.122 and are presented in detail. In order to avoid confusion and possible inconsistencies, we have removed the NOX SIP Call requirements and instead reference them in this rule. Because § 51.122 establishes the reporting requirements, the changes that we have made to the CERR do not represent new requirements for the States.

K. Changes Resulting from OMB Review

In their review of the Paperwork Reduction Act portion of this rule, the Office of Management and Budget (OMB) has raised concerns about that portion of the Information Collection Request that addresses the reporting of point source PM2.5 and NH3 emissions. Rather than delay the compliance date of the rule, EPA has elected to delay compliance with that portion which concerns the collection of information on point source PM2.5 and NH3 emissions. As modified, the rule now provides that States must commence reporting point source emissions of PM2.5 and NH3 on June 1, 2004 provided that, at least 60 days prior, we have published an approved revised ICR which addresses this subsection of the rule. If we fail to meet the deadline for June 1, 2004 reporting, States must commence reporting point source emissions of PM2.5 and NH3 on the next applicable reporting date that is at least 60 days after we publish an approved ICR addressing this subsection of the rule.

IV. Administrative Requirements

A. Docket

The docket for this regulatory action is A-98-40. The docket is an organized and complete file of all the information submitted to, or otherwise considered by, EPA in the development of this rulemaking. The principal purposes of the docket are: (1) To allow interested parties a means to identify and locate documents so that the parties can effectively participate in the rulemaking process and (2) to serve as the record in case of judicial review (except for interagency review materials). The docket is available for public inspection at EPA's Air Docket, which is listed under the ADDRESSES section of this document.

B. Executive Order 12866, Regulatory Planning and Review

Under Executive Order 12866 (58 FR 51735, October 4, 1993), EPA must determine whether the regulatory action is “significant” and therefore subject to review by the Office of Management and Budget (OMB) and the requirements of the Executive Order. The Executive Order defines “significant regulatory action” as one that is likely to result in a rule that may:

(1) Have an annual effect on the economy of $100 million or more or adversely affect in a material way the economy, a sector of the economy, productivity, competition, jobs, the environment, public health or safety, or State, local, or tribal governments or communities;

(2) Create a serious inconsistency or otherwise interfere with an action taken or planned by another agency;

(3) Materially alter the budgetary impact of entitlements, grants, user fees, or loan programs, or the rights and obligation of recipients thereof; or

(4) Raise novel legal or policy issues arising out of legal mandates, the President's priorities, or the principles set forth in the Executive Order.

Pursuant to the terms of Executive Order 12866, OMB has notified EPA that it considers this a “significant regulatory action” within the meaning of the Executive Order. The EPA has submitted this action to OMB for review. Changes made in response to OMB suggestions or recommendations have been documented in the public record.

C. Paperwork Reduction Act

The information collection requirements in this rule have been submitted for approval to the Office of Management and Budget (OMB) under the Paperwork Reduction Act, 44 U.S.C. 3501 et seq. Earlier the Office of Management and Budget approved the current information collection requirements in part 51 under the Paperwork Reduction Act and has assigned OMB control number 2060-0088 (EPA ICR No. 0916.09). The Information Collection Request (ICR) document for the new information collection requirements has been prepared by EPA (ICR No. 0916.10 ) and a copy may be obtained from Sandy Farmer by mail at Collection Strategies Division; U.S. Environmental Protection Agency (2822); 1200 Pennsylvania Ave., NW., Washington, DC 20460, by email at farmer.sandy@epa.gov, or by calling (202) 260-2740. A copy may also be downloaded from the internet at http://www.epa.gov/icr. The information requirements are not enforceable until OMB approves them.

Today's action revises part 51 to consolidate old reporting requirements, adds new requirements for PM2.5 and NH3 (Note: Initially PM2.5 and NH3 reporting will only be required for area and mobile sources. States will be required to commence point source reporting of PM2.5 and NH3 at a later date as detailed in § 51.30.) and adds new Statewide reporting requirements for area and mobile sources. Data from new reporting will be used to:

• Support modeling analyses,

• Project future control strategies,

• Track progress to meet requirements of the CAA, and,

• Respond to public inquiries.

The rule contains mandatory information reporting requirements; EPA considers all information reported under this rule to be in the public domain and therefore cannot be treated as confidential.

The information in the following table was summarized from ICR 0916.10 and presents the reporting burden estimates.

Burden Estimate Summary
Reporting requirement | Number of respondents | Hours per respondent | Total hours per year | Total labor costs per year | Total annual capital costs | Total annual O&M costs
Current | 104 | 118 | 12,271 | $365,756 | $218,400 | $12,480
Statewide Reporting, State agencies | Varies | 1,120 | 42,630 | 1,267,126 |  |
Statewide Reporting, Local agencies | Varies | 574 | 15,022 | 446,511 |  |
PM2.5 and NH3 Reporting | 104 | 84 | 8,736 | 259,667 |  |
CERR-Compatible Reporting | Varies | 84 | 5,376 | 159,795 |  |
Total | Varies | 1,980 | 84,035 | $2,498,855 | $218,400 | $12,480

The reporting burden is broken down into “current requirements”, “statewide area and mobile source reporting requirements”, “PM2.5 and NH3 reporting requirements”, and “CERR-compatible reporting”. This has been done to highlight the major areas changed by the CERR and to show the impact of these changes on the estimated burden. Significant public comments received concerning each of these components are discussed, as well as any resulting changes made to the burden estimates.

The burden hours estimated for all of the emission inventory reporting requirements in place prior to this rule are labeled “current” and equal 118 hours per respondent per year. Because of the streamlining and flexibility offered by the CERR, these “current” requirements are reduced from the original burden estimate of 212 hours per respondent; a savings of 94 hours per respondent per year. Several commenters had stated that the number of respondents used to estimate burden in the proposed ICR (i.e., 55) underestimates the total number of respondents, and does not include local air pollution agencies. The EPA agrees that the estimated total number of State, Territorial and local agencies reporting emissions inventory data directly to EPA should be accounted for. This number was estimated to be 104 respondents (i.e., 55 State and Territorial agencies, plus 49 local agencies). As a result, the total burden hours per year for “current” requirements has increased, but the corresponding hours per respondent has actually decreased.

The reporting requirements for statewide area and mobile source reporting add 57,652 hours per year. Several commenters indicated that they believed the burden estimate in the proposed ICR to underestimate the actual reporting burden to States. One commenter stated that “while consolidation may ease the current burden on some state and local agencies, it will have little effect on others.” The EPA acknowledges that certain State or local agencies are farther along than others in developing statewide emission estimation procedures. For States without nonattainment areas, this would be a new requirement, and the burden to comply with this requirement may be significant. Several commenters indicated that the burden to perform this activity will be zero since they are already performing statewide inventories. To respond to these comments, the final ICR presents increased burden estimates for a percentage of State agencies to comply with this provision of the rule, and the remaining state respondents were assumed not to incur additional burden for this activity. Since local agencies are presumed to have jurisdiction over fewer counties than a State agency, the statewide inventory burden for local agencies was estimated to be one-half the time for the State agencies. In addition, area and mobile source reporting responsibility was only attributed to one-half of the local agency respondents.

The PM2.5 and NH3 reporting requirements add 8,736 hours per year. Several commenters stated that the burden estimate for PM2.5 reporting was low and did not take into account the amount of time needed to develop emission factors since very little dependable PM2.5 emissions factor information exists. Several commenters, however, indicated that the burden to perform this activity will be zero since they are already compiling PM2.5 inventories for their own emissions inventory or modeling purposes. The EPA agrees that burden hours associated with PM2.5 reporting were underestimated in the proposed ICR. EPA updated the one-time burden estimate for the final CERR to reflect the time it will take an average State or local agency to generate a more representative PM2.5 and NH3 emissions inventory, and if necessary, to update agency reporting systems to include PM2.5 and NH3. The revised estimate of 8736 hours includes the effort for a State or local agency to update their emissions reporting system to include PM2.5 and NH3. Although States are not required to commence reporting of PM2.5 and NH3 point source emissions until June 1, 2004, this burden estimate includes the effort for a State to update their point source data base in anticipation of this requirement.

Commenters questioned why EPA did not include an estimate for industry respondents for PM2.5 reporting, since States may look to industry to provide PM2.5 information. Another commenter maintained that it seems inappropriate to include industry respondents when developing the burden estimates. The EPA will include an estimate of the burden hours required by industry, as well as by State and local agencies, to report PM2.5 and NH3 from point sources in a subsequent revised ICR. States will be required to commence point source reporting of PM2.5 and NH3 at a later date as detailed in § 51.30.

Finally, several commenters believed that the capital and operations and maintenance costs were not representative of actual costs that would be incurred by respondents. The EPA agrees and we have increased the costs to reflect a higher number of work stations, and multiplied costs per respondent by an increased number of respondents. In addition, although not included as a capital cost, EPA accounted for the labor hours and associated costs of respondents to convert their reporting systems to CERR-compatible format, since all agencies' reporting systems are not presently compatible with EPA's NEI Input format.

The total burden impact of the CERR is estimated to be 84,035 hours per year for State, Territorial and local respondents. It should be noted that, of this total of 84,035 hours per year, approximately 34,000 hours per year are associated with start-up costs that will no longer be incurred after the first three years. Thus, after three years, the estimated burden becomes about 50,000 hours per year.

We did not include Tribes in our estimate of burden. While Tribes may report their emissions to us, under the Tribal Authority Rule they are not required to do so. If the Tribes do not provide emissions estimates to us, we will estimate their emissions for them. Generally, the emissions from tribal lands are not major and therefore the burden associated with estimating these emissions is not large.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

An Agency may not conduct or sponsor, and a person is not required to respond to a collection of information unless it displays a currently valid OMB control number. The OMB control numbers for EPA's regulations are listed in 40 CFR part 9 and 48 CFR chapter 15. The OMB control number for the information collection requirements in this rule will be listed in an amendment to [40 CFR part 9 or 48 CFR chapter 15] in a subsequent Federal Register document after OMB approves the ICR.

D. Impact on Small Entities

The Regulatory Flexibility Act (RFA), as amended by the Small Business Regulatory Enforcement Fairness Act of 1966 (SBREFA), 5 U.S.C. 601 et seq. generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impacts of today's rule on small entities, small entity is defined as: (1) A small business is defined in the Small Business Administration's (SBA) regulations at 13 CFR 121.201. SBA defines small business by category of business using North American Industry Classification System (NAICS) codes; (2) a small governmental jurisdiction that is a government of a city, county, town, school district or special district with a population of less than 50,000; and (3) a small organization that is any not-for-profit enterprise which is independently owned and operated and is not dominant in its field.

The EPA has determined that this final rule will not have a significant economic impact on a substantial number of small entities. As stated in the preamble under “Who will have to comply with the CERR requirements?” and in the rule under § 51.1, the rule applies only to State agencies, which do not constitute small entities within the meaning of the RFA.

E. Executive Order 13045: Children's Health Protection

Executive Order 13045: “Protection of Children from Environmental Health Risks and Safety Risks” (62FR19885, April 23, 1997) applies to any rule that: (1) Is determined to be “economically significant” as defined under Executive Order 12866, and (2) concerns an environmental health or safety risk that EPA has reason to believe may have a disproportionate effect on children. If the regulatory action meets both criteria, the Agency must evaluate the environmental health or safety effects of the planned rule on children, and explain why the planned regulation is preferable to other potentially effective and reasonably feasible alternatives considered by the Agency.

The EPA interprets Executive Order 13045 as applying only to those regulatory actions that are based on health or safety risks, such that the analysis required under section 5-501 of the Order has the potential to influence the regulation. This rule is not subject to Executive Order 13045 because it is based on the need for information to characterize health and safety risks themselves.

F. The National Technology Transfer and Advancement Act

Section 12(d) of the National Technology Transfer and Advancement Act of 1995 (NTTAA), Public Law 104-113, § 12(d) (15 U.S.C. 272 note) directs EPA to use voluntary consensus standards in its regulatory activities unless to do so would be inconsistent with applicable law or otherwise impractical. Voluntary consensus standards are technical standards (e.g., materials specifications, test methods, sampling procedures, and business practices) that are developed or adopted by voluntary consensus standards bodies. The NTTAA directs EPA to provide Congress, through OMB, explanations when the Agency decides not to use available and applicable voluntary consensus standards.

This rule does not involve technical standards. Therefore, EPA is not considering the use of any voluntary consensus standards.

G. Unfunded Mandates Reform Act

Title II of the Unfunded Mandates Reform Act of 1995 (UMRA), Public Law 104-4, establishes requirements for Federal agencies to assess the effects of their regulatory actions on State, local, and tribal governments and the private sector. Under section 202 of the UMRA, EPA generally must prepare a written statement, including a cost-benefit analysis, for proposed and final rules with “Federal mandates” that may result in expenditures to State, local, and tribal governments, in the aggregate, or to the private sector, of $100 million or more in any one year. Before promulgating an EPA rule for which a written statement is needed, section 205 of the UMRA generally requires EPA to identify and consider a reasonable number of regulatory alternatives and adopt the least costly, most cost-effective or least burdensome alternative that achieves the objectives of the rule. The provisions of section 205 do not apply when they are inconsistent with applicable law. Moreover, section 205 allows EPA to adopt an alternative other than the least costly, most cost-effective or least burdensome alternative if the Administrator publishes with the final rule an explanation why that alternative was not adopted. Before EPA establishes any regulatory requirements that may significantly or uniquely affect small governments, including tribal governments, it must have developed under section 203 of the UMRA a small government agency plan. The plan must provide for notifying potentially affected small governments, enabling officials of affected small governments to have meaningful and timely input in the development of EPA regulatory proposals with significant Federal intergovernmental mandates, and informing, educating, and advising small governments on compliance with the regulatory requirements.

The EPA has determined that this rule does not contain a Federal mandate that may result in expenditures of $100 million or more for State, local, and tribal governments, in the aggregate, or the private sector in any one year. The additional work required by this rule takes advantage of information already in the possession of reporting groups. Using existing data leverages past work and reduces the burden of this rule. This conclusion is supported by the analysis done in support of EPA ICR No. 0916.10, which shows that total costs will be about $2,730,000. The EPA has also determined that this rule does not apply to small government entities. As discussed in this preamble under section “D. Impact on Small Entities”, this rule applies only to State governments. Thus, today's rule is not subject to the requirements of sections 202, 203 and 205 of the UMRA.

H. Executive Order 13132: Federalism

Executive Order 13132, entitled “Federalism” (64 FR 43255, August 10, 1999), requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

Under section 6 of Executive Order 13132, EPA may not issue a regulation that has federalism implications, that imposes substantial direct compliance costs, and that is not required by statute, unless the Federal government provides the funds necessary to pay the direct compliance costs incurred by State and local governments, or EPA consults with State and local officials early in the process of developing the proposed regulation. The EPA also may not issue a regulation that has federalism implications and that preempts State law, unless the Agency consults with State and local officials early in the process of developing the proposed regulation.

If EPA complies by consulting, Executive Order 13132 requires EPA to provide to the Office of Management and Budget (OMB), in a separately identified section of the preamble to the rule, a federalism summary impact statement (FSIS). The FSIS must include a description of the extent of EPA's prior consultation with State and local officials, a summary of the nature of their concerns and the agency's position supporting the need to issue the regulation, and a statement of the extent to which the concerns of State and local officials have been met. Also, when EPA transmits a draft final rule with federalism implications to OMB for review pursuant to Executive Order 12866, EPA must include a certification from the agency's Federalism Official stating that EPA has met the requirements of Executive Order 13132 in a meaningful and timely manner.

In the proposed rule (65 FR 33273), EPA proposed to conclude that this rule did have federalism implications. This was based on the fact the proposed rule would require States to report their emissions Statewide and to report PM2.5 and NH3 emissions. It was also assumed that since such reporting may impose direct costs on State or local governments, and since the Federal government will not provide the funds necessary to pay those costs, that the federalism provisions would apply. The EPA has reconsidered this position. The federalism provisions are intended to apply to rules that substantially alter the relationship between the Federal Government and State governments. This rule in large measure consolidates pre-existing reporting requirements and the incremental burden of the new requirements is about $2,133,000 annually. While this rule will impact State governments by imposing new emission inventory reporting requirements, EPA does not believe that this causes a substantial change in the relationship between the national government and the States, or on the distribution of power and responsibilities among the various levels of government, as specified in Executive Order 13132. Thus, the requirements of section 6 of the Executive Order do not apply to this rule.

I. Executive Order 13175: Consultation and Coordination With Indian Tribal Governments

Executive Order 13175, entitled “Consultation and Coordination with Indian Tribal Governments” (65 FR 67249, November 6, 2000), requires EPA to develop an accountable process to ensure “meaningful and timely input by tribal officials in the development of regulatory policies that have tribal implications.” “Policies that have tribal implications” is defined in the Executive Order to include regulations that have “substantial direct effects on one or more Indian tribes, on the relationship between the Federal government and the Indian tribes, or on the distribution of power and responsibilities between the Federal government and Indian tribes.”

This final rule does not have tribal implications. It will not have substantial direct effects on tribal governments, on the relationship between the Federal government and Indian tribes, or on the distribution of power and responsibilities between the Federal government and Indian tribes, as specified in Executive Order 13175. The Tribal Authority Rule means that Tribes cannot be required to report their emissions to us. Thus, Executive Order 13175 does not apply to this rule.

J. Executive Order 13211: Actions Concerning Regulations That Significantly Affect Energy Supply, Distribution, or Use

This rule is not a “significant energy action” as defined in Executive Order 13211, “Actions Concerning Regulations That Significantly Affect Energy Supply, Distribution, or Use” (66 FR 28355 (May 22, 2001)) because it is not likely to have a significant adverse effect on the supply, distribution, or use of energy. This rule defines the requirements for the reporting of emission inventories by State and local agencies to EPA. We do not believe that this rule will effect the supply, production, availability, cost or use on energy in the United States. Further, we have concluded that this rule is not likely to have any adverse energy effects.

K. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A Major rule cannot take effect until 60 days after it is published in the Federal Register. This action is not a “major rule” as defined by 5 U.S.C. 804(2). This rule will become effective 60 days after it is published in the Federal Register.

List of Subjects in 40 CFR Part 51

Environmental protection, Administrative practice and procedure, Air pollution control, Intergovernmental relations, Reporting and recordkeeping requirements.

Dated: May 23, 2002.
Christine Todd Whitman,
Administrator.

For the reasons stated in the preamble, title 40, chapter I, of the Code of Federal Regulations is amended as follows:

PART 51—[AMENDED]

1. The authority citation for part 51 continues to read as follows:

Authority: 23 U.S.C. 101; 42 U.S.C. 7401—7671q.

2. Part 51 is amended by adding subpart A to read as follows:

Subpart A—Emission Inventory Reporting Requirements
General Information for Inventory Preparers
Sec.
51.1 Who is responsible for actions described in this subpart?
51.5 What tools are available to help prepare and report emissions data?
51.10 How does my State report emissions that are required by the NOX SIP Call?
Specific Reporting Requirements
51.15 What data does my State need to report to EPA?
51.20 What are the emission thresholds that separate point and area sources?
51.25 What geographic area must my State's inventory cover?
51.30 When does my State report the data to EPA?
51.35 How can my State equalize the effort for annual reporting?
51.40 In what form should my State report the data to EPA?
51.45 Where should my State report the data?
Appendix A to Subpart A of Part 51—Tables and Glossary
Appendix B to Subpart A of Part 51 [Reserved]

Subpart A—Emission Inventory Reporting Requirements

General Information for Inventory Preparers

§ 51.1 Who is responsible for actions described in this subpart?

State agencies whose geographic coverage include any point, area, mobile, or biogenic sources must inventory these sources and report this information to EPA.

§ 51.5 What tools are available to help prepare and report emissions data?

We urge your State to use estimation procedures described in documents from the Emission Inventory Improvement Program (EIIP). These procedures are standardized and ranked according to relative uncertainty for each emission estimating technique. Using this guidance will enable others to use your State's data and evaluate its quality and consistency with other data.

§ 51.10 How does my State report emissions that are required by the NOX SIP Call?

The States and the District of Columbia that are subject to the NOX SIP Call (§ 51.121) should report their emissions under the provisions of § 51.122. To avoid confusion, these requirements are not repeated here.

Specific Reporting Requirements

§ 51.15 What data does my State need to report to EPA?

(a) Pollutants. Report actual emissions of the following (see Glossary to Appendix A to this subpart for precise definitions as required):

(1) Required Pollutants:

(i) Sulfur oxides.

(ii) VOC.

(iii) Nitrogen oxides.

(iv) Carbon monoxide.

(v) Lead and lead compounds.

(vi) Primary PM2.5.

(vii) Primary PM10.

(viii) NH3.

(2) Optional Pollutant:

(i) Primary PM.

(ii) [Reserved]

(b) Sources. Emissions should be reported from the following sources:

(1) Point.

(2) Area.

(3) Onroad mobile.

(4) Nonroad mobile.

(5) Biogenic.

(c) Supporting information. Report the data elements in Tables 2a through 2d of Appendix A to this subpart. Depending on the format you choose to report your State data, additional information not listed in Tables 2a through 2d will be required. We may ask you for other data on a voluntary basis to meet special purposes.

(d) Confidential data. We don't consider the data in Tables 2a through 2d of Appendix A to this subpart confidential, but some States limit release of this type of data. Any data that you submit to EPA under this rule will be considered in the public domain and cannot be treated as confidential. If Federal and State requirements are inconsistent, consult your EPA Regional Office for a final reconciliation.

§ 51.20 What are the emission thresholds that separate point and area sources?

(a) All anthropogenic stationary sources must be included in your inventory as either point or area sources.

(b) See Table 1 of Appendix A to this subpart for minimum reporting thresholds on point sources.

(c) Your State has two alternatives to the point source reporting thresholds in paragraph (b) of this section:

(1) You may choose to define point sources by the definition of a major source used under CAA Title V, see 40 CFR 70.2.

(2) If your State has lower emission reporting thresholds for point sources than paragraph (b) of this section, then you may use these in reporting your emissions to EPA.

(d) All stationary sources that have actual emissions lower than the thresholds specified in paragraphs (b) and (c) of this section, should be reported as area sources.

§ 51.25 What geographic area must my State's inventory cover?

Because of the regional nature of these pollutants, your State's inventory must be statewide, regardless of an area's attainment status.

§ 51.30 When does my State report the data to EPA?

Your State is required to report two basic types of emission inventories to us: Annual Cycle Inventory; and Three-year Cycle Inventory.

(a) Annual cycle. You are required to report annually data from Type A (large) point sources. Except as provided in paragraph (e) of this section, the first annual cycle inventory will be for the year 2001 and must be submitted to us within 17 months, i.e., by June 1, 2003. Subsequent annual cycle inventories will be due 17 months following the end of the reporting year. See Table 2a of Appendix A to this subpart for the specific data elements to report annually.

(b) Three-year cycle. You are required to report triennially, data for Type B (all) point sources, area sources and mobile sources. Except as provided in paragraph (e) of this section, the first three-year cycle inventory will be for the year 2002 and must be submitted to us within 17 months, i.e., by June 1, 2004. Subsequent three-year cycle inventories will be due 17 months following the end of the reporting year. See Tables 2a, 2b and 2c of Appendix A to this subpart for the specific data elements that must be reported triennially.

(c) NOX SIP call. There are specific annual and three-year reporting requirements for States subject to the NOX SIP call. See § 51.122 for these requirements.

(d) Biogenic emissions. Biogenic emissions are part of your 3-year cycle inventory. Your State must establish an initial baseline for biogenic emissions that is due as specified under paragraph (b) of this section. Your State need not submit more biogenic data unless land use characteristics or the methods for estimating emissions change substantially. If either of these changes, your State must report the biogenic emission data elements shown in Table 2d of Appendix A to this subpart. Report these data elements 17 months after the end of the reporting year.

(e) Point Sources. States must commence reporting point source emissions of PM2.5 and NH3 on June 1, 2004 unless that date is less than 60 days after EPA publishes an approved Information Collection Request (ICR) addressing this section of the rule. If EPA fails to publish an approved ICR 60 days in advance of June 1, 2004, States must commence reporting point source emissions of PM2.5 and NH3 on the next annual or triennial reporting date (as appropriate) that is at least 60 days after EPA publishes an approved ICR addressing this section.

§ 51.35 How can my State equalize the effort for annual reporting?

(a) Compiling a 3-year cycle inventory means much more effort every three years. As an option, your State may ease this workload spike by using the following approach:

(1) Annually collect and report data for all Type A (large) point sources (This is required for all Type A point sources).

(2) Annually collect data for one-third of your smaller point sources (Type B point sources minus Type A (large) point sources). Collect data for a different third of these sources each year so that data has been collected for all of the smaller point sources by the end of each three-year cycle. You may report these data to EPA annually, or as an option you may save three years of data and then report all of the smaller point sources on the three-year cycle due date.

(3) Annually collect data for one-third of the area, nonroad mobile, onroad mobile and, if required, biogenic sources. You may report these data to EPA annually, or as an option you may save three years of data and then report all of these data on the three-year cycle due date.

(b) For the sources described in paragraph (a) of this section, your State will therefore have data from three successive years at any given time, rather than from the single year in which it is compiled.

(c) If your State chooses the method of inventorying one-third of your smaller point sources and 3-year cycle area, nonroad mobile, onroad mobile sources each year, your State must compile each year of the three-year period identically. For example, if a process hasn't changed for a source category or individual plant, your State must use the same emission factors to calculate emissions for each year of the three-year period. If your State has revised emission factors during the three years for a process that hasn't changed, resubmit previous year's data using the revised factor. If your State uses models to estimate emissions, you must make sure that the model is the same for all three years.

(d) If your State chooses the method of inventorying one-third of your smaller point sources and 3-year cycle area, nonroad mobile, onroad mobile sources each year and reporting them on the 3-year cycle due date, the first required date for you to report on all such sources will be June 1, 2004 as specified in § 51.25. You can satisfy the 2004 reporting requirement by either: Starting to inventory one third of your sources in 2000; or doing a one-time complete 3-year cycle inventory for 2002, then changing to the option of inventorying one third of your sources for subsequent years.

(e) If your State needs a new reference year emission inventory for a selected pollutant, your State can't use these optional reporting frequencies for the new reference year.

(f) If your State is a NOX SIP call State, you can't use these optional reporting frequencies for NOX SIP call reporting.

§ 51.40 In what form should my State report the data to EPA?

You must report your emission inventory data to us in electronic form. We support specific electronic data reporting formats and you are required to report your data in a format consistent with these. Because electronic reporting technology continually changes, contact the Emission Factor and Inventory Group (EFIG) for the latest specific formats. You can find information on the current formats at the following Internet address: http://www.epa.gov/ttn/chief. You may also call our Info CHIEF help desk at (919) 541-1000 or email to info.chief@epa.gov.

§ 51.45 Where should my State report the data?

(a) Your State submits or reports data by providing it directly to EPA.

(b) The latest information on data reporting procedures is available at the following Internet address: http://www.epa.gov/ttn/chief.

You may also call our Info CHIEF help desk at (919)541-1000 or email to info.chief@epa.gov.

Appendix A to Subpart A of Part 51—Tables and Glossary

Table 1.—Minimum Point Source Reporting Thresholds by Pollutant(tpy ¹)
Pollutant | Annual cycle (type A sources) | Three-year cycle: Type B sources ² | Three-year cycle: NAA ³
1. SOx | ≥2500 | ≥100 | ≥100
2. VOC | ≥250 | ≥100 | 03 (moderate)≥100
3. VOC |  |  | O3 (serious)≥50
4. VOC |  |  | O3 (severe)≥25
5. VOC |  |  | O3 (extreme)≥10
6. NOX | ≥2500 | ≥100 | ≥100
7. CO | ≥2500 | ≥1000 | O3 (all areas)≥100
8. CO |  |  | CO (all areas)≥100
9. Pb |  | ≥5 | ≥5
10. PM10 | ≥250 | ≥100 | PM1010 (moderate)≥100
11. PM10 |  |  | PM10 (serious)≥70
12. PM2.5 | ≥250 | ≥100 | ≥100
13. NH3 | ≥250 | ≥100 | ≥100
¹ tpy = tons per year of actual emissions.
² Type A sources are a subset of the Type B sources and are the larger emitting sources by pollutant.
³ NAA = Nonattainment Area. Special point source reporting thresholds apply for certain pollutants by type of nonattainment area. The pollutants by nonattainment area are: Ozone: VOC, NOX, CO; CO: CO; PM10: PM10.

Table 2a.—Data Elements That States Must Report for Point Sources
Data elements | Annual (Type A sources) | Every 3 years (Type B sources and NAAs)
1. Inventory year | ✔ | ✔
2. Inventory start date | ✔ | ✔
3. Inventory end date | ✔ | ✔
4. Inventory type | ✔ | ✔
5. State FIPS code | ✔ | ✔
6. County FIPS code | ✔ | ✔
7. Facility ID code | ✔ | ✔
8. Point ID code | ✔ | ✔
9. Process ID code | ✔ | ✔
10. Stack ID code | ✔ | ✔
11. Site name | ✔ | ✔
12. Physical address | ✔ | ✔
13. SCC or PCC | ✔ | ✔
14. Heat content (fuel) (annual average) | ✔ | ✔
15. Ash content (fuel) (annual average) | ✔ | ✔
16. Sulfur content (fuel) (annual average) | ✔ | ✔
17. Pollutant code | ✔ | ✔
18. Activity/throughput (annual) | ✔ | ✔
19. Activity/throughput (daily) | ✔ | ✔
20. Work weekday emissions | ✔ | ✔
21. Annual emissions | ✔ | ✔
22. Emission factor | ✔ | ✔
23. Winter throughput (%) | ✔ | ✔
24. Spring throughput (%) | ✔ | ✔
25. Summer throughput (%) | ✔ | ✔
26. Fall throughput (%) | ✔ | ✔
27. Hr/day in operation | ✔ | ✔
28. Start time (hour) | ✔ | ✔
29. Day/wk in operation | ✔ | ✔
30. Wk/yr in operation | ✔ | ✔
31. X stack coordinate (latitude) |  | ✔
32. Y stack coordinate (longitude) |  | ✔
33. Stack Height |  | ✔
34. Stack diameter |  | ✔
35. Exit gas temperature |  | ✔
36. Exit gas velocity |  | ✔
37. Exit gas flow rate |  | ✔
38. SIC/NAICS |  | ✔
39. Design capacity |  | ✔
40. Maximum namemplate capacity |  | ✔
41. Primary control eff (%) |  | ✔
42. Secondary control eff (%) |  | ✔
43. Control device type |  | ✔
44. Rule effectiveness (%) |  | ✔

Table 2b.—Data Elements that States Must Report for Area and Nonroad Mobile Sources
Data elements | Every 3 years
1. Inventory year | ✔
2. Inventory start date | ✔
3. Inventory end date | ✔
4. Inventory type | ✔
5. State FIPS code | ✔
6. County FIPS code | ✔
7. SCC or PCC | ✔
8. Emission factor | ✔
9. Activity/throughput level (annual) | ✔
10. Total capture/control efficiency (%) | ✔
11. Rule effectiveness (%) | ✔
12. Rule penetration (%) | ✔
13. Pollutant code | ✔
14. Summer/winter work weekday emissions | ✔
15. Annual emissions | ✔
16. Winter throughput (%) | ✔
17. Spring throughput (%) | ✔
18. Summer throughput (%) | ✔
19. Fall throughput (%) | ✔
20. Hrs/day in operation | ✔
21. Days/wk in operation | ✔
22. Wks/yr in operation | ✔

Table 2c.—Data Elements that States Must Report for Onroad Mobile Sources
Data elements | Every 3 years
1. Inventory year | ✔
2. Inventory start date | ✔
3. Inventory end date | ✔
4. Inventory type | ✔
5. State FIPS code | ✔
6. County FIPS code | ✔
7. SCC or PCC | ✔
8. Emission factor | ✔
9. Activity (VMT by Roadway Class) | ✔
10. Pollutant code | ✔
11. Summer/winter work weekday emissions | ✔
12. Annual emissions | ✔

Table 2d.—Data Elements that States Must Report for Biogenic Sources
Data elements | Every 3 years
1. Inventory year | ✔
2. Inventory start date | ✔
3. Inventory end date | ✔
4. Inventory type | ✔
5. State FIPS code | ✔
6. County FIPS code | ✔
7. SCC or PCC | ✔
8. Pollutant code | ✔
9. Summer/winter work weekday emissions | ✔
10. Annual emissions | ✔

Glossary

Activity rate/throughput (annual)—A measurable factor or parameter that relates directly or indirectly to the emissions of an air pollution source. Depending on the type of source category, activity information may refer to the amount of fuel combusted, raw material processed, product manufactured, or material handled or processed. It may also refer to population, employment, number of units, or miles traveled. Activity information is typically the value that is multiplied against an emission factor to generate an emissions estimate.

Activity rate/throughput (daily)—The beginning and ending dates and times that define the emissions period used to estimate the daily activity rate/throughput.

Annual emissions—Actual emissions for a plant, point, or process—measured or calculated that represent a calendar year.

Area sources—Area sources collectively represent individual sources that have not been inventoried as specific point, mobile, or biogenic sources. These individual sources treated collectively as area sources are typically too small, numerous, or difficult to inventory using the methods for the other classes of sources.

Ash content—Inert residual portion of a fuel.

Biogenic sources—Biogenic emissions are all pollutants emitted from non-anthropogenic sources. Example sources include trees and vegetation, oil and gas seeps, and microbial activity.

Control device type—The name of the type of control device (e.g., wet scrubber, flaring, or process change).

County FIPS Code—Federal Information Placement System (FIPS) is the system of unique numeric codes the government developed to identify States, counties and parishes for the entire United States, Puerto Rico, and Guam.

Day/wk in operations—Days per week that the emitting process operates—average over the inventory period.

Design capacity—A measure of the size of a point source, based on the reported maximum continuous capacity of the unit.

Emission factor—Ratio relating emissions of a specific pollutant to an activity or material throughput level.

Exit gas flow rate—Numeric value of stack gas's flow rate.

Exit gas temperature—Numeric value of an exit gas stream's temperature.

Exit gas velocity—Numeric value of an exit gas stream's velocity.

Facility ID code—Unique code for a plant or facility, containing one or more pollutant-emitting sources. This is the data element in Appendix A, Table 2a, that is defined elsewhere in this glossary as a “point source”.

Fall throughput(%)—Part of the throughput for the three Fall months (September, October, November). This expresses part of the annual activity information based on four seasons—typically spring, summer, fall, and winter. It can be a percentage of the annual activity (e.g., production in summer is 40% of the year's production) or units of the activity (e.g., out of 600 units produced, spring = 150 units, summer = 250 units, fall = 150 units, and winter = 50 units).

Heat content—The amount of thermal heat energy in a solid, liquid, or gaseous fuel. Fuel heat content is typically expressed in units of Btu/lb of fuel, Btu/gal of fuel, joules/kg of fuel, etc.

Hr/day in operations—Hours per day that the emitting process operates—average over the inventory period.

Inventory end date—Last day of the inventory period.

Inventory start date—First day of the inventory period.

Inventory type—Type of inventory represented by data (i.e., point, 3-year cycle, daily).

Inventory year—The calendar year for which you calculated emissions estimates.

Lead (Pb)—As defined in 40 CFR 50.12, lead should be reported as elemental lead and its compounds.

Maximum nameplate capacity—A measure of a unit's size that the manufacturer puts on the unit's nameplate.

Mobile source—A motor vehicle, nonroad engine or nonroad vehicle.

• A “motor vehicle” is any self-propelled vehicle used to carry people or property on a street or highway.

• A “nonroad engine” is an internal combustion engine (including fuel system) that is not used in a motor vehicle or vehicle only used for competition, or that is not affected by sections 111 or 202 of the CAA.

• A “nonroad vehicle” is a vehicle that is run by a nonroad engine and that is not a motor vehicle or a vehicle only used for competition.

PM (Particulate Matter)—Particulate matter is a criteria air pollutant. For the purpose of this subpart, the following definitions apply:

(1) Primary PM: Particles that enter the atmosphere as a direct emission from a stack or an open source. It is comprised of two components: Filterable PM and Condensible PM. (As specified in § 51.15 (a)(2), these two PM components are the components measured by a stack sampling train such as EPA Method 5 and have no upper particle size limit.)

(2) Filterable PM: Particles that are directly emitted by a source as a solid or liquid at stack or release conditions and captured on the filter of a stack test train.

(3) Condensible PM: Material that is vapor phase at stack conditions, but which condenses and/or reacts upon cooling and dilution in the ambient air to form solid or liquid PM immediately after discharge from the stack.

(4) Secondary PM: Particles that form through chemical reactions in the ambient air well after dilution and condensation have occurred. Secondary PM is usually formed at some distance downwind from the source. Secondary PM should NOT be reported in the emission inventory and is NOT covered by this subpart.

(5) Primary PM2.5: Also PM2.5 (or Filterable PM2.5 and Condensible PM individually. Note that all Condensible PM is assumed to be in the PM2.5 size fraction)—Particulate matter with an aerodynamic diameter equal to or less than 2.5 micrometers.

(6) Primary PM10: Also PM10 (or Filterable PM10 and Condensible PM individually)—Particulate matter with an aerodynamic diameter equal to or less than 10 micrometers.

PCC—Process classification code. A process-level code that describes the equipment or operation which is emitting pollutants. This code is being considered as a replacement for the SCC.

Physical address—Street address of a facility. This is the address of the location where the emissions occur; not, for example, the corporate headquarters.

Point ID code—Unique code for the point of generation of emissions, typically a physical piece of equipment.

Point source—Point sources are large, stationary (non-mobile), identifiable sources of emissions that release pollutants into the atmosphere. As used in this rule, a point source is defined as a facility that annually emits more than a “threshold” value as defined under § 51.20.

Pollutant code—A unique code for each reported pollutant assigned in the Emission Inventory Improvement Program (EIIP) Data Model. The EIIP model was developed to promote consistency in organizations sharing emissions data. The model uses character names for criteria pollutants and Chemical Abstracts Service (CAS) numbers for all other pollutants. You may be using SAROAD codes for pollutants, but you should be able to map them to the pollutant codes in the EIIP Data Model.

Process ID code—Unique code for the process generating the emissions, typically a description of a process.

Roadway class—A classification system developed by the Federal Highway Administration that defines all public roadways as to type. Currently there are four roadway types: (1) Freeway, (2) freeway ramp, (3) arterial/collector and (4) local.

Rule effectiveness (RE)—How well a regulatory program achieves all possible emission reductions. This rating reflects the assumption that controls typically aren't 100 percent effective because of equipment downtime, upsets, decreases in control efficiencies, and other deficiencies in emission estimates. RE adjusts the control efficiency.

Rule penetration—The percentage of an area source category covered by an applicable regulation.

SCC—Source classification code. A process-level code that describes the equipment and/or operation which is emitting pollutants.

Seasonal activity rate/throughput—A measurable factor or parameter that relates directly or indirectly to the pollutant season emissions of an air pollution source. Depending on the type of source category, activity information may refer to the amount of fuel combusted, raw material processed, product manufactured, or material handled or processed. It may also refer to population, employment, number of units, or miles traveled. Activity information is typically the value that is multiplied against an emission factor to generate an emissions estimate.

Seasonal fuel heat content—The amount of thermal heat energy in a solid, liquid, or gaseous fuel used during the pollutant season. Fuel heat content is typically expressed in units of Btu/lb of fuel, Btu/gal of fuel, joules/kg of fuel, etc.

Secondary control eff (%)—The emission reduction efficiency of a secondary control device. Control efficiency is usually expressed as a percentage or in tenths.

SIC/NAICS—Standard Industrial Classification code. NAICS (North American Industry Classification System) codes will replace SIC codes. U.S. Department of Commerce's code for businesses by products or services.

Site name—The name of the facility.

Spring throughput (%)—Part of throughput or activity for the three spring months (March, April, May). See the definition of Fall Throughput.

Stack diameter—A stack's inner physical diameter.

Stack height—A stack's physical height above the surrounding terrain.

Stack ID code—Unique code for the point where emissions from one or more processes release into the atmosphere.

Start time (hour)—Start time (if available) that you used to calculate the emissions estimates.

State FIPS Code—Federal Information Placement System (FIPS) is the system of unique numeric codes the government developed to identify States, counties and parishes for the entire United States, Puerto Rico, and Guam.

Sulfur content—Sulfur content of a fuel, usually expressed as percent by weight.

Summer throughput(%)—Part of throughput or activity for the three summer months (June, July, August). See the definition of Fall Throughput.

Summer/winter work weekday emissions—Average day's emissions for a typical day. Ozone daily emissions = summer work weekday; CO and PM daily emissions = winter work weekday.

Total capture/control efficiency—The emission reduction efficiency of a primary control device, which shows the amount controls or material changes reduce a particular pollutant from a process' emissions. Control efficiency is usually expressed as a percentage or in tenths.

Type A source—Large point sources with actual annual emissions greater than or equal to any of the emission thresholds listed in Table 1 for Type A sources.

Type B source—Point sources with actual annual emissions during any year of the three year cycle greater than or equal to any of the emission thresholds listed in Table 1 for Type B sources. Type B sources include all Type A sources.

VMT by Roadway Class—Vehicle miles traveled (VMT) expresses vehicle activity and is used with emission factors. The emission factors are usually expressed in terms of grams per mile of travel. Because VMT doesn't correlate directly to emissions that occur while the vehicle isn't moving, these nonmoving emissions are incorporated into the emission factors in EPA's MOBILE Model.

VOC—Volatile Organic Compounds. The EPA's regulatory definition of VOC is in 40 CFR 51.100.

Winter throughput (%)—Part of throughput or activity for the three winter months (December, January, February, all from the same year, e.g., Winter 2000 = January 2000 + February, 2000 + December 2000). See the definition of Fall Throughput.

Wk/yr in operation—Weeks per year that the emitting process operates.

Work Weekday—Any day of the week except Saturday or Sunday.

X stack coordinate (latitude)—An object's north-south geographical coordinate. Y stack coordinate (longitude)—An object's east-west geographical coordinate.

Appendix B to Subpart A of Part 51—[Reserved]

Subpart Q—[Amended]

3. Section 51.321 is revised to read as follows:

§ 51.321 Annual source emissions and State action report.

The State agency shall report to the Administrator (through the appropriate Regional Office) information as specified in §§ 51.322 through 51.326.

4. Section 51.322 is revised to read as follows:

§ 51.322 Sources subject to emissions reporting.

The requirements for reporting emissions data under the plan are in subpart A of this part 51.

5. Section 51.323 is revised to read as follows:

§ 51.323 Reportable emissions data and information.

The requirements for reportable emissions data and information under the plan are in subpart A of this part 51.

[FR Doc. 02-14037 Filed 6-7-02; 8:45 am]

BILLING CODE 6560-50-P